DEPARTMENT OF EDUCATION

[CFDA No. 84.215S and 215V]

Office of Safe and Drug-Free Schools—Partnerships in Character Education Program

ACTION: Notice of intent to fund down the grant slate for the Partnerships in Character Education Program.

SUMMARY: The Secretary intends to use the grant slate developed for the Partnerships in Character Education Grant program in Fiscal Year (FY) 2002 to make new grant awards in FY 2003. The Secretary takes this action because a significant number of high-quality applications remain on the last year's grant slate and limited funding is available for new grant awards in FY 2003.

Background: On May 21, 2002, we published a notice inviting applications for new awards under the Partnerships in Character Education Grant Program. This notice indicated that the selection criteria, competitive preference priority and applications requirements contained in the notice would apply to the FY 2002 grant competition only.

We received a significant number of applications for grants under the Partnerships in Character Education Grant Program in FY 2002, and made 39 new grants. Because such a large number of high-quality applications were received, many applications that were awarded very high scores by peer reviewers did not receive funding last year.

Limited funding is available for new awards under this program in FY 2003. In order to conserve funding that would have been required for a peer review of new applications submitted under the program, we intend to select grantees in FY 2003 from the existing slate of applicants. This slate was developed during the FY 2002 competition using the selection criteria, competitive preference priority, and application requirements included in the May 21, 2002 notice. No changes to selection criteria, competitive preference priority, or application requirements will be required by this action.

FOR FURTHER INFORMATION CONTACT: Office of Safe and Drug-Free Schools, U.S. Department of Education, 400 Maryland Avenue, SW., Washington, DC 20202-6123. Telephone: (202) 260-3954.

Individuals who use a telecommunication device for the deaf (TDD) may call the Federal Information Relay Service (FIRS) at (800) 877-8339.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have questions about use PDF, call the U.S. Government Printing Office (GPO), toll free, at 1-888-293-6498; or in the Washington, DC, area at (202) 512-1530.

Note: The official version of this document is the document published in the Federal Register. Free Internet access to the official education of the Federal Register and the Code of Federal Regulations is available on GPO access at: http://www.access.gpo.gov/nara/index.html.

Authority: 20 U.S.C. 7247.

Dated: May 14, 2003.
Eric Andell,
Deputy Under Secretary for Safe and Drug-Free Schools.

[FR Doc. 03-12436 Filed 5-14-03; 1:30 pm]

BILLING CODE 4000-01-P